DEPARTMENT OF HOMELAND SECURITY

Federal Emergency Management Agency

44 CFR Part 67

[Docket ID FEMA-2011-0002; Internal Agency Docket No. FEMA-B-1222]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 4, 2012.

ADDRESSES: The corresponding preliminary Flood Insurance Rate Map (FIRM) for the proposed BFEs for each community is available for inspection at the community's map repository. The respective addresses are listed in the table below.

You may submit comments, identified by Docket No. FEMA-B-1222, to Luis Rodriguez, Chief, Engineering Management Branch, Federal Insurance and Mitigation Administration, Federal Emergency Management Agency, 500 C Street, SW., Washington, DC 20472, (202) 646-4064, or (e-mail) Luis.Rodriguez3@fema.dhs.gov.

FOR FURTHER INFORMATION CONTACT: Luis Rodriguez, Chief, Engineering Management Branch, Federal Insurance and Mitigation Administration, Federal Emergency Management Agency, 500 C Street, SW., Washington, DC 20472, (202) 646-4064, or (e-mail) Luis.Rodriguez3@fema.dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Clay County, Florida, and Incorporated Areas
Black Creek Tributary 1 | Approximately 0.6 mile downstream of Russell Road | None | +9 | Unincorporated Areas of Clay County.
| Approximately 0.5 mile upstream of Russell Road | None | +24
Black Creek Tributary 2 | Approximately 740 feet downstream of Russell Road | None | +10 | Unincorporated Areas of Clay County.
| Approximately 0.7 mile upstream of Callie Lane | None | +33
Bradley Creek Tributary 1 | Approximately 270 feet upstream of the Bradley Creek confluence | None | +20 | Unincorporated Areas of Clay County.
| Approximately 0.5 mile upstream of the Bradley Creek confluence | None | +47
Buckeys Creek | Approximately 1,500 feet upstream of the Governors Creek confluence | None | +5 | City of Green Cove Springs, Unincorporated Areas of Clay County.
| Approximately 1.1 miles upstream of the Governors Creek confluence | None | +18
Bush Creek | Approximately 0.4 mile downstream of South County Road 209 | None | +4 | Unincorporated Areas of Clay County.
| Approximately 1,550 feet upstream of South County Road 209 | None | +16
Bush Creek Tributary 1 | Approximately 735 feet downstream of South County Road 209 | None | +4 | Unincorporated Areas of Clay County.
| Approximately 1.0 mile upstream of South County Road 209 | None | +18
Clay Branch | Approximately 0.4 mile downstream of Rivers Road | None | +4 | Unincorporated Areas of Clay County.
| Approximately 0.4 mile upstream of Rivers Road | None | +28
Doctors Lake Tributary 2 | Approximately 630 feet upstream of the Doctors Lake confluence | None | +4 | Unincorporated Areas of Clay County.
| Approximately 1,150 feet upstream of Moody Avenue | None | +56
Doctors Lake Tributary 5 | At the upstream side of Salt Marsh Lane | None | +4 | Unincorporated Areas of Clay County.
| Approximately 1,810 feet upstream of Sandy Springs Drive | None | +16
Greens Creek | At the South Fork Black Creek confluence | None | +40 | Unincorporated Areas of Clay County.
| Approximately 1.7 miles upstream of the South Fork Black Creek confluence | None | +43
Grog Creek | Approximately 0.5 mile upstream of Blanding Boulevard | None | +22 | Unincorporated Areas of Clay County.
| Approximately 0.6 mile upstream of Blanding Boulevard | None | +23
Grog Creek Tributary 1 | Approximately 1,160 feet downstream of Blanding Boulevard | None | +14 | Unincorporated Areas of Clay County.
| At the downstream side of Blanding Boulevard | None | +15
Little Black Creek | Approximately 0.4 mile downstream of Cheswick Oak Avenue | None | +33 | Unincorporated Areas of Clay County.
| Approximately 430 feet upstream of Cheswick Oak Avenue | None | +51
Little Black Creek Tributary 1 | Approximately 875 feet downstream of Trail Ridge Road | None | +40 | Unincorporated Areas of Clay County.
| Approximately 0.6 mile upstream of Tynes Boulevard | None | +79
Little Black Creek Tributary 1A | Approximately 650 feet downstream of Tynes Boulevard | None | +36 | Unincorporated Areas of Clay County.
| Approximately 0.4 mile upstream of Pine Ridge Parkway | None | +78
Little Black Creek Tributary 2 | Approximately 1.0 mile upstream of the Little Black Creek confluence | None | +17 | Unincorporated Areas of Clay County.
| Approximately 2.4 miles upstream of the Little Black Creek confluence | None | +57
Little Black Creek Tributary 3 | Approximately 0.9 mile downstream of Branan Field Road | None | +13 | Unincorporated Areas of Clay County.
| Approximately 0.5 mile upstream of Browns Road | None | +73
Little Black Creek Tributary 4 | Approximately 1,485 feet downstream of Fern Avenue | None | +13 | Unincorporated Areas of Clay County.
| Approximately 150 feet upstream of Jefferson Avenue | None | +67
Lucy Branch | Approximately 85 feet upstream of Doctors Lake Drive | None | +4 | Unincorporated Areas of Clay County.
| Approximately 1,875 feet upstream of Blanding Boulevard | None | +24
Mill Log Creek | Approximately 1.3 miles downstream of Russell Road | None | +6 | Unincorporated Areas of Clay County.
| Approximately 1.3 miles upstream of Sandridge Road | None | +71
Mill Log Creek Tributary 1 | At the Mill Log Creek confluence | None | +6 | Unincorporated Areas of Clay County.
| Approximately 0.9 mile upstream of Russell Road | None | +27
Multiple Ponding Areas | Area bound by Piedmont Manor Drive to the north, Cheswick Oak Avenue to the east, Canopy Oaks Drive to the south, and Oakleaf Village Parkway to the west | None | +61 | Unincorporated Areas of Clay County.
Multiple Ponding Areas | Area bound by Wandering Oaks Drive to the north, Country Club Boulevard to the east, Blanding Boulevard to the south, and Oakleaf Village Parkway to the west | None | +44 | Unincorporated Areas of Clay County.
Multiple Ponding Areas | Area bound by the Duval County boundary to the north, Willow Green Drive to the east, Oakside Drive to the south, and Oakleaf Village Parkway to the west | None | +66 | Unincorporated Areas of Clay County.
Multiple Ponding Areas | Area bound by Canopy Oaks Drive to the north, Cherry Grove Road to the east, Blanding Boulevard to the south, and Waterford Oaks Drive to the west | None | +40 | Unincorporated Areas of Clay County.
Multiple Ponding Areas | Area bound by Canopy Oaks Drive to the north, Country Club Boulevard to the east, Blanding Boulevard to the south, and Oakleaf Village Parkway to the west | None | +47 | Unincorporated Areas of Clay County.
Multiple Ponding Areas | Area bound by the Duval County boundary to the north, Wakemont Drive to the east, and Oakleaf Village Parkway to the south and west | None | +69 | Unincorporated Areas of Clay County.
Multiple Ponding Areas | Area bound by Piedmont Manor Drive to the north, Wakemont Drive to the east, and Laurelwood Drive to the south and west | None | +67 | Unincorporated Areas of Clay County.
Multiple Ponding Areas | Area bound by Thorncrest Drive to the north, Brier Rose Lane to the east, Stonebrier Ridge Drive to the south, and Wakemont Drive to the west | None | +64 | Unincorporated Areas of Clay County.
Multiple Ponding Areas | Area bound by Oakside Drive to the north, Wandering Oaks Drive to the east, Crane Hill Court to the south, and Oakleaf Village Parkway to the west | None | +57 | Unincorporated Areas of Clay County.
Multiple Ponding Areas | Area bound by the Duval County boundary to the north, Wakemont Drive to the east, Oakside Drive to the south, and Oakleaf Village Parkway to the west | None | +68 | Unincorporated Areas of Clay County.
North Fork Black Creek Tributary 1 | At the downstream side of Long Bay Road | None | +21 | Unincorporated Areas of Clay County.
| Approximately 0.7 mile upstream of Long Bay Road | None | +58
North Fork Black Creek Tributary 1A | At the downstream side of Long Bay Road | None | +57 | Unincorporated Areas of Clay County.
| Approximately 0.5 mile upstream of Long Bay Road | None | +76
North Fork Black Creek Tributary 2 | Approximately 550 feet upstream of the North Fork Black Creek confluence | None | +22 | Unincorporated Areas of Clay County.
| Approximately 1.0 mile upstream of the North Fork Black Creek confluence | None | +36
North Prong Double Branch Tributary 1 | Approximately 920 feet downstream of Branan Field Road | None | +56 | Unincorporated Areas of Clay County.
| Approximately 1,860 feet upstream of Branan Field Road | None | +66
Ortega River Tributary | Approximately 320 feet downstream of Wells Road | None | +6 | Unincorporated Areas of Clay County.
| Approximately 0.5 mile upstream of Crossing Boulevard | None | +12
Peters Branch | At the downstream side of U.S. Route 17 | None | +13 | Unincorporated Areas of Clay County.
| Approximately 1,290 feet upstream of Eagle Harbor Parkway | None | +18
Peters Creek | Approximately 1.9 miles downstream of West State Road 16 | None | +15 | Unincorporated Areas of Clay County.
| Approximately 1.3 miles downstream of West State Road 16 | None | +19
Peters Creek Tributary 1 | Approximately 200 feet upstream of the Peters Creek confluence | None | +8 | Unincorporated Areas of Clay County.
| Approximately 120 feet downstream of Feed Mill Road | None | +84
Peters Creek Tributary 2 | Approximately 225 feet upstream of the Peters Creek confluence | None | +11 | Unincorporated Areas of Clay County.
| Approximately 0.9 mile upstream of the Peters Creek confluence | None | +70
Polander Branch Tributary 1 | Approximately 235 feet upstream of the Polander Branch confluence | None | +26 | Unincorporated Areas of Clay County.
| Approximately 1,560 feet upstream of the Polander Branch confluence | None | +69
Ponding Area | Area bound by Oakside Drive to the north, Bellshire Drive to the east, and Oakleaf Village Parkway to the south and west | None | +67 | Unincorporated Areas of Clay County.
Ponding Area | Area bound by Whispering Willow Way to the north, Country Club Boulevard to the east, Blanding Boulevard to the south, and Oakleaf Village Parkway to the west | None | +41 | Unincorporated Areas of Clay County.
Ponding Area | Area bound by Canopy Oaks Drive to the north, Country Club Boulevard to the east, Waterford Oaks Drive to the south, and Akron Oaks Drive to the west | None | +55 | Unincorporated Areas of Clay County.
Ponding Area | Area bound by Wakemont Drive to the north, Hanging Moss Drive to the east, Blanding Boulevard to the south, and Oakleaf Village Parkway to the west | None | +49 | Unincorporated Areas of Clay County.
South Fork Black Creek | Approximately 500 feet upstream of West State Road 16 | None | +39 | Unincorporated Areas of Clay County.
| Approximately 1.0 mile upstream of West State Road 16 | None | +40
South Fork Black Creek Tributary 1 | Approximately 0.4 mile downstream of County Road 218 | None | +55 | Town of Penney Farms, Unincorporated Areas of Clay County.
| Approximately 1,500 feet upstream of West State Road 16 | None | +86
South Fork Black Creek Tributary 2 | Approximately 390 feet downstream of Black Creek Drive | None | +17 | Unincorporated Areas of Clay County.
| Approximately 1.2 miles upstream of Black Creek Drive | None | +68
South Fork Black Creek Tributary 3 | Approximately 440 feet downstream of Black Creek Drive | None | +18 | Unincorporated Areas of Clay County.
| Approximately 0.8 mile upstream of Thunder Road | None | +84
South Fork Black Creek Tributary 4 | Approximately 0.8 mile upstream of Thunder Road | None | +69 | Unincorporated Areas of Clay County.
| Approximately 1.5 miles upstream of Thunder Road | None | +81
South Fork Black Creek Tributary 7 | At the South Fork Black Creek confluence | None | +39 | Unincorporated Areas of Clay County.
| Approximately 900 feet upstream of Reinhold Tree Farm Road | None | +65
South Prong Double Branch | Approximately 0.6 mile downstream of Oakleaf Plantation Parkway | None | +59 | Unincorporated Areas of Clay County.
| Approximately 0.6 mile upstream of Oakleaf Plantation Parkway | None | +77
St. Johns River Tributary 1 | Approximately 0.5 mile upstream of U.S. Route 17 | None | +11 | City of Green Cove Springs, Unincorporated Areas of Clay County.
| Approximately 1.0 mile upstream of U.S. Route 17 | None | +28
St. Johns River Tributary 3 | At the downstream side of South County Road 209 | None | +4 | Unincorporated Areas of Clay County.
| Approximately 1,030 feet upstream of South County Road 209 | None | +7
St. Johns River Tributary 3A | Approximately 430 feet downstream of South County Road 209 | None | +4 | Unincorporated Areas of Clay County.
| Approximately 0.6 mile upstream of South County Road 209 | None | +17
St. Johns River Tributary 4A East | Approximately 1,240 feet downstream of South County Road 209 | None | +4 | Unincorporated Areas of Clay County.
| Approximately 1,470 feet upstream of South County Road 209 | None | +17
St. Johns River Tributary 5 (downstream) | Approximately 0.7 mile downstream of Bayard Road | None | +4 | Unincorporated Areas of Clay County.
| Approximately 645 feet upstream of Bayard Road | None | +11
St. Johns River Tributary 5 (upstream) | Approximately 855 feet downstream of South U.S. Route 17 | None | +15 | City of Green Cove Springs, Unincorporated Areas of Clay County.
| Approximately 670 feet upstream of South U.S. Route 17 | None | +24
St. Johns River Tributary 6 | Approximately 215 feet downstream of South County Road 209 | None | +4 | Unincorporated Areas of Clay County.
| Approximately 1.2 miles upstream of South County Road 209 | None | +21
St. Johns River Tributary 7 | Approximately 430 feet downstream of South County Road 209 | None | +4 | Unincorporated Areas of Clay County.
| Approximately 0.4 mile upstream of South County Road 209 | None | +15
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Green Cove Springs
Maps are available for inspection at City Hall, 321 Walnut Street, Green Cove Springs, FL 32043.
Town of Penney Farms
Maps are available for inspection at the Town Hall, 4100 Clark Avenue, Penney Farms, FL 32079.
Unincorporated Areas of Clay County
Maps are available for inspection at the Clay County Public Works Department, 5 Esplanade Avenue, Green Cove Springs, FL 32043.
Muskegon County, Michigan (All Jurisdictions)
Lake Michigan | Entire shoreline within community | None | +584 | Township of Fruitland, Township of Laketon.
North Channel Muskegon River (flooding effects from Muskegon Lake) | At the Chesapeake and Ohio Railway | None | +584 | City of Muskegon, Township of Muskegon.
| Approximately 1.3 miles upstream of the Chesapeake and Ohio Railway | None | +584
White Lake | Entire shoreline within community | None | +584 | Township of Fruitland, Township of Whitehall.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Muskegon
Maps are available for inspection at City Hall, 933 Terrace Street, Muskegon, MI 49440.
Township of Fruitland
Maps are available for inspection at the Fruitland Township Hall, 4545 Nestrom Road, Whitehall, MI 49461.
Township of Laketon
Maps are available for inspection at the Laketon Township Hall, 2735 West Giles Road, Muskegon, MI 49445.
Township of Muskegon
Maps are available for inspection at the Muskegon Township Hall, 1990 Apple Avenue, Muskegon, MI 49442.
Township of Whitehall
Maps are available for inspection at the Township Hall, 7644 Durham Road, Whitehall, MI 49461.
Nicollet County, Minnesota, and Incorporated Areas
Minnesota River | At the Sibley County boundary | +748 | +747 | City of Mankato, City of North Mankato, City of St. Peter, Unincorporated Areas of Nicollet County.
| At the Renville County boundary | +818 | +820
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Mankato
Maps are available for inspection at 10 Civic Center Plaza, Mankato, MN 56002.
City of North Mankato
Maps are available for inspection at 1001 Belgrade Avenue, North Mankato, MN 56003.
City of St. Peter
Maps are available for inspection at the Municipal Building, 227 South Front Street, St. Peter, MN 56082.
Unincorporated Areas of Nicollet County
Maps are available for inspection at 501 South Minnesota Avenue, St. Peter, MN 56082.
Lancaster County, Nebraska, and Incorporated Areas
Little Salt Creek | Approximately 1,293 feet upstream of the Salt Creek confluence | None | +1139 | City of Lincoln, Unincorporated Areas of Lancaster County.
| Approximately 1,289 feet downstream of West Rock Creek Road | None | +1253
Little Salt Creek Tributary 05 | Approximately 0.5 mile downstream of Arbor Road | None | +1139 | City of Lincoln.
| Approximately 121 feet downstream of North 40th Street | None | +1165
Little Salt Creek Tributary 10 | Approximately 115 feet downstream of North 27th Street | None | +1143 | City of Lincoln.
| Approximately 1,601 feet downstream of Waverly Road | None | +1217
Little Salt Creek Tributary 110 | Approximately 1,231 feet downstream of North 40th Street | None | +1160 | City of Lincoln.
| Approximately 1,110 feet upstream of North 40th Street | None | +1181
Little Salt Creek Tributary 115 | Approximately 0.77 mile downstream of North 14th Street | None | +1146 | City of Lincoln.
| Approximately 1.43 miles upstream of North 14th Street | None | +1220
Little Salt Creek Tributary 120 | Approximately 405 feet upstream of the Little Salt Creek Tributary 20 confluence | None | +1152 | City of Lincoln.
| Approximately 246 feet downstream of Waverly Road | None | +1168
Little Salt Creek Tributary 1260 | Approximately 390 feet upstream of the Little Salt Creek Tributary 260 confluence | None | +1209 | City of Lincoln.
| Approximately 0.82 mile upstream of West Davey Road | None | +1288
Little Salt Creek Tributary 130 | Approximately 192 feet upstream of the Little Salt Creek Tributary 30 confluence | None | +1197 | City of Lincoln, Unincorporated Areas of Lancaster County.
| Approximately 311 feet upstream of North 1st Street | None | +1222
Little Salt Creek Tributary 1415 | Approximately 425 feet upstream of the Little Salt Creek Tributary 415 confluence | None | +1219 | City of Lincoln.
| Approximately 1,072 feet upstream of the Little Salt Creek Tributary 415 confluence | None | +1228
Little Salt Creek Tributary 145 | Approximately 615 feet upstream of the Little Salt Creek Tributary 45 confluence | None | +1170 | Unincorporated Areas of Lancaster County.
| Approximately 241 feet downstream of North 14th Street | None | +1214
Little Salt Creek Tributary 15 | Approximately 1,952 feet upstream of the Little Salt Creek confluence | None | +1145 | City of Lincoln.
| Approximately 1,976 feet downstream of Waverly Road | None | +1290
Little Salt Creek Tributary 150 | Approximately 241 feet upstream of the Little Salt Creek Tributary 50 confluence | None | +1197 | Unincorporated Areas of Lancaster County.
| Approximately 276 feet downstream of North 14th Street | None | +1224
Little Salt Creek Tributary 160 | Approximately 421 feet downstream of North 1st Street | None | +1183 | Unincorporated Areas of Lancaster County.
| Approximately 283 feet downstream of Branched Oak Road | None | +1224
Little Salt Creek Tributary 170 | Approximately 547 feet upstream of the Little Salt Creek Tributary 70 confluence | None | +1207 | Unincorporated Areas of Lancaster County.
| Approximately 160 feet downstream of West Raymond Road | None | +1245
Little Salt Creek Tributary 20 | Approximately 643 feet upstream of the Little Salt Creek confluence | None | +1152 | City of Lincoln, Unincorporated Areas of Lancaster County.
| Approximately 200 feet downstream of North 40th Street | None | +1256
Little Salt Creek Tributary 210 | Approximately 206 feet upstream of the Little Salt Creek Tributary 10 confluence | None | +1195 | City of Lincoln.
| Approximately 1,025 feet upstream of the Little Salt Creek Tributary 10 confluence | None | +1202
Little Salt Creek Tributary 215 | Approximately 904 feet downstream of North 14th Street | None | +1165 | City of Lincoln.
| Approximately 142 feet downstream of McKelvie Road | None | +1194
Little Salt Creek Tributary 220 | Approximately 829 feet downstream of Waverly Road | None | +1172 | City of Lincoln, Unincorporated Areas of Lancaster County.
| Approximately 171 feet downstream of Mill Road | None | +1237
Little Salt Creek Tributary 2220 | Approximately 434 feet downstream of Mill Road | None | +1221 | Unincorporated Areas of Lancaster County.
| Approximately 1,534 feet upstream of Mill Road | None | +1248
Little Salt Creek Tributary 230 | Approximately 448 feet upstream of the Little Salt Creek Tributary 30 confluence | None | +1217 | Unincorporated Areas of Lancaster County.
| Approximately 1,719 feet upstream of the Little Salt Creek Tributary 30 confluence | None | +1231
Little Salt Creek Tributary 25 | Approximately 1,365 feet upstream of the Little Salt Creek confluence | None | +1152 | City of Lincoln.
| Approximately 95 feet upstream of North 14th Street | None | +1184
Little Salt Creek Tributary 250 | Approximately 406 feet upstream of the Little Salt Creek Tributary 50 confluence | None | +1214 | Unincorporated Areas of Lancaster County.
| Approximately 247 feet downstream of North 14th Street | None | +1247
Little Salt Creek Tributary 260 | Approximately 363 feet upstream of the Little Salt Creek Tributary 60 confluence | None | +1200 | Unincorporated Areas of Lancaster County.
| Approximately 1,559 feet upstream of Davey Road | None | +1281
Little Salt Creek Tributary 270 | Approximately 279 feet upstream of the Little Salt Creek Tributary 70 confluence | None | +1230 | Unincorporated Areas of Lancaster County.
| Approximately 1,270 feet upstream of the Little Salt Creek Tributary 70 confluence | None | +1240
Little Salt Creek Tributary 30 | Approximately 0.87 mile downstream of North 14th Street | None | +1157 | City of Lincoln, Unincorporated Areas of Lancaster County.
| Approximately 0.95 mile upstream of North 1st Street | None | +1260
Little Salt Creek Tributary 315 | Approximately 247 feet downstream of North 7th Street | None | +1185 | City of Lincoln.
| Approximately 62 feet downstream of Alvo Road | None | +1205
Little Salt Creek Tributary 320 | Approximately 393 feet upstream of the Little Salt Creek Tributary 20 confluence | None | +1211 | Unincorporated Areas of Lancaster County.
| Approximately 188 feet downstream of Raymond Road | None | +1251
Little Salt Creek Tributary 35 | Approximately 60 feet upstream of Waverly Road | None | +1157 | City of Lincoln, Unincorporated Areas of Lancaster County.
| Approximately 0.80 mile upstream of the Little Salt Creek confluence | None | +1194
Little Salt Creek Tributary 360 | Approximately 261 feet upstream of the Little Salt Creek Tributary 60 confluence | None | +1256 | Unincorporated Areas of Lancaster County.
| Approximately 1,010 feet downstream of West Rock Creek Road | None | +1263
Little Salt Creek Tributary 40 | Approximately 1,536 feet upstream of the Little Salt Creek confluence | None | +1165 | Unincorporated Areas of Lancaster County.
| Approximately 93 feet downstream of Mill Road | None | +1198
Little Salt Creek Tributary 415 | Approximately 600 feet upstream of the Little Salt Creek Tributary 15 confluence | None | +1206 | City of Lincoln.
| Approximately 1,829 feet upstream of North 1st Street | None | +1228
Little Salt Creek Tributary 420 | Approximately 55 feet upstream of the Little Salt Creek Tributary 20 confluence | None | +1218 | Unincorporated Areas of Lancaster County.
| Approximately 178 feet downstream of Raymond Road | None | +1247
Little Salt Creek Tributary 45 | Approximately 77 feet downstream of Mill Road | None | +1169 | Unincorporated Areas of Lancaster County, Village of Davey.
| Approximately 1,734 feet upstream of Branched Oak Road | None | +1172
Little Salt Creek Tributary 50 | Approximately 0.77 mile downstream of Raymond Road | None | +1172 | Unincorporated Areas of Lancaster County.
| Approximately 0.52 mile upstream of Branched Oak Road | None | +1269
Little Salt Creek Tributary 520 | Approximately 194 feet downstream of Raymond Road | None | +1251 | Unincorporated Areas of Lancaster County.
| Approximately 94 feet downstream of Raymond Road | None | +1253
Little Salt Creek Tributary 55 | Approximately 264 feet upstream of North 1st Street | None | +1175 | Unincorporated Areas of Lancaster County.
| Approximately 0.45 mile upstream of North 1st Street | None | +1187
Little Salt Creek Tributary 60 | Approximately 0.98 mile downstream of West Branched Oak Road | None | +1180 | Unincorporated Areas of Lancaster County.
| Approximately 1,183 feet downstream of West Rock Creek Road | None | +1262
Little Salt Creek Tributary 65 | Approximately 0.82 mile downstream of West Raymond Road | None | +1180 | Unincorporated Areas of Lancaster County.
| Approximately 0.94 mile upstream of West Raymond Road | None | +1246
Little Salt Creek Tributary 70 | Approximately 1 mile downstream of Northwest 27th Street | None | +1192 | Unincorporated Areas of Lancaster County.
| Approximately 1,754 feet upstream of Northwest 27th Street | None | +1256
Little Salt Creek Tributary 75 | At the Little Salt Creek confluence | None | +1203 | Unincorporated Areas of Lancaster County.
| Approximately 0.95 mile upstream of the Little Salt Creek confluence | None | +1250
Little Salt Creek Tributary 80 | At the Little Salt Creek confluence | None | +1210 | Unincorporated Areas of Lancaster County.
| Approximately 1,283 feet downstream of West Rock Creek Road | None | +1273
Little Salt Creek Tributary 85 | Approximately 142 feet upstream of the Little Salt Creek confluence | None | +1216 | Unincorporated Areas of Lancaster County.
| Approximately 1,884 feet downstream of West Davey Road | None | +1246
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Lincoln
Maps are available for inspection at the Building and Safety Department, 555 South 10th Street, Lincoln, NE 68508.
Unincorporated Areas of Lancaster County
Maps are available for inspection at the Building and Safety Department, 555 South 10th Street, Lincoln, NE 68508.
Village of Davey
Maps are available for inspection at the Village Hall, 3530 Elm Street, Davey, NE 68336.
Iron County, Utah, and Incorporated Areas
Coal Creek | Approximately 0.8 mile downstream of West 6600 North | None | +5542 | City of Cedar City, Unincorporated Areas of Iron County.
| Approximately 680 feet upstream of the Squaw Creek confluence | None | +5889
Coal Creek Overflow | Approximately 1,750 feet downstream of West 3200 North | None | +5502 | Unincorporated Areas of Iron County.
| Approximately 480 feet downstream of Bulldog Road | None | +5656
Coal Creek to Fiddlers Split | Approximately 370 feet upstream of Midvalley Road | None | +5500 | City of Cedar City, Unincorporated Areas of Iron County.
| Approximately 925 feet upstream of West 3000 North | None | +5554
Cross Hollow | Approximately 190 feet downstream of South Cross Hollow Road West | None | +5751 | City of Cedar City.
| Approximately 1,990 feet downstream I-15 | None | +5925
Greens Lake | Approximately 750 feet upstream of I-15 | None | +6002 | City of Cedar City, Unincorporated Areas of Iron County.
| Approximately 0.6 mile upstream of South Fir Street West | None | +6045
North Airport Canal | Approximately 175 feet upstream of North Baver Road West | None | +5593 | City of Cedar City.
| Approximately 125 feet downstream of Airport Road | None | +5611
Old Quichapa Creek Lower | Approximately 0.6 mile downstream of South 6100 West | None | +5462 | Unincorporated Areas of Iron County.
| At the Old Quichapa Creek Upper confluence | None | +5494
Old Quichapa Creek Upper | At the Old Quichapa Creek Lower confluence | None | +5494 | Unincorporated Areas of Iron County.
| Approximately 750 feet upstream of 400 South | None | +5521
Quichapa Channel | Approximately 0.53 mile downstream of South 6400 West | None | +5458 | City of Cedar City, Unincorporated Areas of Iron County.
| Approximately 210 feet downstream of I-15 | None | +5680
Quichapa West | Approximately 0.4 mile downstream of South 6400 West | None | +5466 | Unincorporated Areas of Iron County.
| Approximately 740 feet downstream of 5300 West | None | +5493
Shurtz Creek | At the Old Quichapa Creek Lower confluence | None | +5472 | City of Cedar City, Unincorporated Areas of Iron County.
| Approximately 485 feet downstream of Triple Road | None | +5772
Shurtz Creek Shallow | Approximately 1,800 feet downstream of 6100 West | None | +5462 | Unincorporated Areas of Iron County.
| Approximately 75 feet downstream of I-15 | None | +5693
Squaw Creek | Approximately 230 feet upstream of the Coal Creek confluence | None | +5885 | City of Cedar City.
| Approximately 0.66 mile upstream of East 200 South | None | +6070
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Cedar City
Maps are available for inspection at the Engineering Department, 10 North Main Street, Cedar City, UT 84720.
Unincorporated Areas of Iron County
Maps are available for inspection at the Iron County Engineering Department, 82 North 100 East, Suite 104, Cedar City, UT 84720.

(Catalog of Federal Domestic Assistance No. 97.022, “Flood Insurance.”)

Dated: September 23, 2011.
Sandra K. Knight,
Deputy Associate Administrator for Mitigation, Department of Homeland Security, Federal Emergency Management Agency.

[FR Doc. 2011-25863 Filed 10-5-11; 8:45 am]

BILLING CODE 9110-12-P